DEPARTMENT OF ENERGY

Federal Energy Regulatory Commission

[Docket No. CP21-94-000]

Transcontinental Gas Pipe Line Company, LLC; Notice of Intent To Prepare an Environmental Impact Statement for the Proposed Regional Energy Access Expansion Project, Request for Comments on Environmental Issues, and Schedule for Environmental Review

The staff of the Federal Energy Regulatory Commission (FERC or Commission) will prepare an environmental impact statement (EIS) that will discuss the environmental impacts of the Regional Energy Access Expansion Project (Project) involving construction and operation of facilities by Transcontinental Gas Pipe Line Company, LLC (Transco) in Bucks, Chester, Delaware, Luzerne, Monroe, Northampton, Wyoming, and York Counties, Pennsylvania; and Burlington, Camden, Gloucester, Hunterdon, Mercer, Somerset, and Warren Counties, New Jersey; and Baltimore County, Maryland. The Commission will use this EIS in its decision-making process to determine whether the project is in the public convenience and necessity. The schedule for preparation of the EIS is discussed in the Schedule for Environmental Review section of this notice.

As part of the National Environmental Policy Act (NEPA) review process, the Commission takes into account concerns the public may have about proposals and the environmental impacts that could result whenever it considers the issuance of a Certificate of Public Convenience and Necessity. This gathering of public input is referred to as “scoping.” By notice issued on July 24, 2020, in Docket No. PF20-3-000, the Commission opened a scoping period during Transco's pre-filing process; and staff intends to prepare an EIS that will address the concerns raised during that scoping period as well as comments received in response to this notice. Therefore, the Commission requests comments on potential alternatives and impacts, and any relevant information, studies, or analyses of any kind concerning impacts affecting the quality of the human environment. To ensure that your comments are timely and properly recorded, please submit your comments so that the Commission receives them in Washington, DC on or before 5:00 p.m. Eastern Time on November 19, 2021. Further details on how to submit comments are provided in the Public Participation section of this notice.

As mentioned above, the Commission previously opened a scoping period which expired on August 24, 2020. All substantive written and oral comments provided during scoping will be addressed in the EIS. Therefore, if you submitted comments on this Project to the Commission during the previous scoping process, you do not need to file those comments again.

If you are a landowner receiving this notice, a pipeline company representative may contact you about the acquisition of an easement to construct, operate, and maintain the proposed facilities. The company would seek to negotiate a mutually acceptable easement agreement. You are not required to enter into an agreement. However, if the Commission approves the Project, the Natural Gas Act conveys the right of eminent domain to the company. Therefore, if you and the company do not reach an easement agreement, the pipeline company could initiate condemnation proceedings in court. In such instances, compensation would be determined by a judge in accordance with state law. The Commission does not grant, exercise, or oversee the exercise of eminent domain authority. The courts have exclusive authority to handle eminent domain cases; the Commission has no jurisdiction over these matters.

Transco provided landowners with a fact sheet prepared by the FERC entitled “An Interstate Natural Gas Facility On My Land? What Do I Need To Know?” which addresses typically asked questions, including the use of eminent domain and how to participate in the Commission's proceedings. This fact sheet along with other landowner topics of interest are available for viewing on the FERC website (www.ferc.gov) under the Natural Gas Questions or Landowner Topics link.

Public Participation

There are three methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to FERC Online. Using eComment is an easy method for submitting brief, text-only comments on a project;

(2) You can file your comments electronically by using the eFiling feature, which is located on the Commission's website (www.ferc.gov) under the link to FERC Online. With eFiling, you can provide comments in a variety of formats by attaching them as a file with your submission. New eFiling users must first create an account by clicking on “eRegister.” You will be asked to select the type of filing you are making; a comment on a particular project is considered a “Comment on a Filing”; or

(3) You can file a paper copy of your comments by mailing them to the Commission. Be sure to reference the project docket number (CP21-94-000) on your letter. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, MD 20852.

Additionally, the Commission offers a free service called eSubscription. This service provides automatic notification of filings made to subscribed dockets, document summaries, and direct links to the documents. Go to https://www.ferc.gov/ferc-online/overview to register for eSubscription.

Summary of the Proposed Project, the Project Purpose and Need, and Expected Impacts

Transco plans to construct and operate approximately 36.1 miles of pipeline loop ¹ and one new compressor station, as well as modify existing compressor stations and facilities in Pennsylvania and New Jersey. The Project would provide about 829 million standard cubic feet of natural gas per day to multiple delivery points along Transco's existing system in Pennsylvania, New Jersey, and Maryland. According to Transco, its Project would provide its customers with enhanced access to Marcellus and Utica Shale natural gas supplies.

¹ A pipeline loop is a segment of pipe constructed parallel to an existing pipeline to increase capacity.

The Project would consist of the following facilities:

• Installation of 22.3 miles of 30-inch-diameter pipeline loop in Luzerne County, Pennsylvania (Regional Energy Lateral);

• installation of 13.8 miles of 42-inch-diameter pipeline loop in Monroe County, Pennsylvania (Effort Loop);

• installation of the new electric-motor driven Compressor Station 201 (9,000 horsepower [hp]) in Gloucester County, New Jersey);

• installation of two gas turbine driven compressor units (31,800 hp) at existing Compressor Station 505 in Somerset County, New Jersey to accommodate the replacement of 16,000 hp from eight existing compressors and increase the certificated station compression by 15,800 hp;

• installation of two gas turbine compressor units (63,742 hp) and modifications to three existing compressors at existing Compressor Station 515 in Luzerne County, Pennsylvania to accommodate the replacement of 17,000 hp from five existing compressors and increase the certificated station compression by 46,742 hp;

• modifications at existing compressor stations, meter stations, interconnects, and ancillary facilities in Pennsylvania, New Jersey, and Maryland; and

• installation of ancillary facilities such as mainline valves, communication facilities, and pig ² launchers and receivers.

² A “pig” is a tool that the pipeline company inserts into and pushes through the pipeline for cleaning the pipeline, conducting internal inspections, or other purposes.

The general location of the Project facilities is shown in appendix 1.³

³ The appendices referenced in this notice will not appear in the Federal Register. Copies of the appendices were sent to all those receiving this notice in the mail and are available at www.ferc.gov using the link called “eLibrary.” For instructions on connecting to eLibrary, refer to the last page of this notice. At this time, the Commission has suspended access to the Commission's Public Reference Room due to the proclamation declaring a National Emergency concerning the Novel Coronavirus Disease (COVID-19), issued by the President on March 13, 2020. For assistance, contact FERC at FERCOnlineSupport@ferc.gov or call toll free, (886) 208-3676 or TTY (202) 502-8659.

Based on the environmental information provided by Transco, construction of the proposed facilities would disturb about 807.7 acres of land for the aboveground facilities and the pipeline. Following construction, Transco would maintain about 231.2 acres for operation of the Project facilities; the remaining acreage would be restored and revert to former uses.

Based on an initial review of Transco's proposal and public comments, Commission staff have identified several expected impacts that deserve attention in the EIS. The Project would impact 83 waterbodies, 17.4 acres of wetland, and greenhouse gas emissions.

The NEPA Process and the EIS

The EIS issued by the Commission will discuss impacts that could occur as a result of the construction and operation of the proposed Project under the relevant general resource areas:

• Geology and soils;

• water resources and wetlands;

• vegetation and wildlife;

• threatened and endangered species;

• cultural resources;

• land use and visual impacts;

• socioeconomics and environmental justice;

• air quality and noise;

• reliability and safety; and

• cumulative impacts.

Commission staff will also make recommendations on how to lessen or avoid impacts on the various resource areas. Your comments will help Commission staff focus its analysis on the issues that may have a significant effect on the human environment.

The EIS will present Commission staff's independent analysis of the issues. The U.S. Army Corps of Engineers, Baltimore and Philadelphia Districts and the U.S. Environmental Protection Agency are cooperating agencies in the preparation of the EIS.⁴ Staff will prepare a draft EIS which will be issued for public comment. Commission staff will consider all timely comments received during the comment period on the draft EIS and revise the document, as necessary, before issuing a final EIS. Any draft and final EIS will be available in electronic format in the public record through eLibrary ⁵ and the Commission's natural gas environmental documents web page (https://www.ferc.gov/industries-data/natural-gas/environment/environmental-documents). If eSubscribed, you will receive instant email notification when the environmental document is issued.

⁴ The Council on Environmental Quality regulations addressing cooperating agency responsibilities are at Title 40 Code of Federal Regulations (CFR), Section 1501.8. (2021).

⁵ For instructions on connecting to eLibrary, refer to the last page of this notice.

Alternatives Under Consideration

The EIS will evaluate reasonable alternatives that are technically and economically feasible and meet the purpose and need for the proposed action.⁶ Alternatives currently under consideration include:

⁶ 40 CFR 1508.1(z).

• The no-action alternative, meaning the Project is not implemented;

• use of other existing and proposed pipeline systems; and

• alternative locations to construct the Project facilities.

With this notice, the Commission requests specific comments regarding any additional potential alternatives to the proposed action or segments of the proposed action. Please focus your comments on reasonable alternatives (including alternative facility sites and pipeline routes) that meet the Project objectives, are technically and economically feasible, and avoid or lessen environmental impact.

Consultation Under Section 106 of the National Historic Preservation Act

In accordance with the Advisory Council on Historic Preservation's implementing regulations for section 106 of the National Historic Preservation Act, the Commission initiated section 106 consultation for the Project in the notice issued on July 24, 2020, with the applicable State Historic Preservation Offices, and other government agencies, interested Indian tribes, and the public to solicit their views and concerns regarding the Project's potential effects on historic properties.⁷ This notice is a continuation of section 106 consultation for the Project. The Project EIS will document findings on the impacts on historic properties and summarize the status of consultations under section 106.

⁷ The Advisory Council on Historic Preservation's regulations are at Title 36, Code of Federal Regulations, Part 800. Those regulations define historic properties as any prehistoric or historic district, site, building, structure, or object included in or eligible for inclusion in the National Register of Historic Places.

Schedule for Environmental Review

On April 9, 2021, the Commission issued its Notice of Application for the Project. Among other things, that notice alerted other agencies issuing federal authorizations of the requirement to complete all necessary reviews and to reach a final decision on the request for a federal authorization within 90 days of the date of issuance of the Commission staff's final EIS for the Project. This notice identifies the Commission staff's planned schedule for completion of the final EIS for the Project, which is based on an issuance of the draft EIS in February of 2022.

Issuance of Notice of Availability of the final EIS—July 29, 2022

90-day Federal Authorization Decision Deadline—October 27, 2022

If a schedule change becomes necessary for the final EIS, an additional notice will be provided so that the relevant agencies are kept informed of the Project's progress.

Permits and Authorizations

The table below lists the anticipated permits and authorizations for the Project required under federal law. This list may not be all-inclusive and does not preclude any permit or authorization if it is not listed here. Agencies with jurisdiction by law and/or special expertise may formally cooperate in the preparation of the Commission's EIS and may adopt the EIS to satisfy its NEPA responsibilities related to this Project. Agencies that would like to request cooperating agency status should follow the instructions for filing comments provided under the Public Participation section of this notice.

Environmental Permits, Approvals, and Consultations
Permitting/approval agency | Permit, approval, or consultation
Federal
Federal Energy Regulatory Commission | Certificate of Public Convenience and Necessity.
U.S. Army Corps of Engineers | Department of the Army permit under section 404 of the Clean Water Act (CWA).
U.S. Fish & Wildlife Service | Endangered Species Act, section 7 Consultation.
| Fish and Wildlife Coordination Act Consultation.
| Migratory Bird Treaty Act Consultation.
| Bald and Golden Eagle Protection Act Consultation.
Interstate Agencies
Susquehanna River Basin Commission, Water Withdrawal Permit Consumptive Use Authorization | Susquehanna River Basin Commission.
Pennsylvania State Agencies
Pennsylvania Department of Environmental Protection (PADEP), Regional Bureaus of Waterways Engineering and Wetlands | CWA 401 Water Quality Certification. Chapter 105 Water Obstruction and Encroachment Permit—Pennsylvania Programmatic General Permit (PASGP-5).
| Chapter 102 Erosion and Sediment Control Plan Review and Permit (ESCGP-3) for Construction Activities.
PADEP Bureau of Clean Water | CWA section 402 National Pollution Discharge Elimination System—Individual Permit for Hydrostatic Test Water Discharge Permit/Approval.
PADEP Bureau of Air Quality | Air Quality Plan Approval (Minor Modification).
Pennsylvania Fish and Boat Commission | Consultation (rare aquatic and amphibian species).
| Aid to Navigation Plans (if required).
| Stream Blasting Permit (if required).
Pennsylvania Department of Conservation and Natural Resources | Consultation (rare plant species).
Pennsylvania Game Commission | Consultation (rare mammalian and avian species).
Pennsylvania Historical and Museum Commission, State Historic Preservation Office | Section 106, National Historic Preservation Act Consultation.
New Jersey State Agencies
New Jersey Department of Environmental Protection (NJDEP), Division of Land Resource Protection | Freshwater Wetlands Letter of Interpretation. Flood Hazard Area Verification Applicability.
| Flood Hazard Area Applicability Determination for certain Flood Hazard Area Permits by Rule.
NJDEP Division of Water Quality, Bureau of Nonpoint Pollution Control | General Permit for Construction Activity, Storm Water (5G3).
NJDEP Division of Fish and Wildlife, Endangered and Nongame Species Program | Consultation for rare, threatened, and endangered species.
NJDEP Division of Parks and Forestry Natural Heritage Program | Consultation for rare, threatened, and endangered species.
NJDEP Division of Fish and Wildlife, Bureau of Freshwater Fisheries | Consultation for state freshwater fish habitat.
NJDEP Historic Preservation Office | Section 106, National Historic Preservation Act Consultation.
NJDEP Division of Water Quality, Bureau of Surface Water Permitting | Short-term De Minimis Discharge Permit (B7).
NJDEP Division of Water Supply and Geoscience, Bureau of Water Allocation and Well Permitting | Short Term Water Use Permit-by-Rule (BWA-003)/Short Term Water Use Report (BWA-004).
| Short-Term Water Use Permit-by-rule (BWA-003)—for hydrostatic testing activities.
NJDEP Division of Air Quality—Bureau of Stationary Sources | Preconstruction Permit to Construct and Operate (Minor Source).
| Modification to Existing Title V Operating Permit.
Maryland Agencies
Maryland Department of Natural Resources | Consultation for rare, threatened, and endangered species.
Maryland Department of Planning, Maryland Historical Trust | Section 106, National Historic Preservation Act Consultation.
Baltimore County | Grading Permit/Soil Erosion Control Plan Approval.

Environmental Mailing List

This notice is being sent to the Commission's current environmental mailing list for the Project, which includes federal, state, and local government representatives and agencies; elected officials; environmental and public interest groups; Native American Tribes; other interested parties; and local libraries and newspapers. This list also includes all affected landowners (as defined in the Commission's regulations) who are potential right-of-way grantors, whose property may be used temporarily for Project purposes, or who own homes within certain distances of aboveground facilities, and anyone who submits comments on the Project and includes a mailing address with their comments. Commission staff will update the environmental mailing list as the analysis proceeds to ensure that Commission notices related to this environmental review are sent to all individuals, organizations, and government entities interested in and/or potentially affected by the proposed Project. State and local government representatives should notify their constituents of this proposed Project and encourage them to comment on their areas of concern.

If you need to make changes to your name/address, or if you would like to remove your name from the mailing list, please complete one of the following steps:

(1) Send an email to GasProjectAddressChange@ferc.gov stating your request. You must include the docket number CP21-94-000 in your request. If you are requesting a change to your address, please be sure to include your name and the correct address. If you are requesting to delete your address from the mailing list, please include your name and address as it appeared on this notice. This email address is unable to accept comments.

Or

(2) Return the attached “Mailing List Update Form” (appendix 2).

Additional Information

Additional information about the Project is available from the Commission's Office of External Affairs, at (866) 208-FERC, or on the FERC website at www.ferc.gov using the eLibrary link. Click on the eLibrary link, click on “General Search” and enter the docket number in the “Docket Number” field, excluding the last three digits (i.e., CP21-94). Be sure you have selected an appropriate date range. For assistance, please contact FERC Online Support at FercOnlineSupport@ferc.gov or (866) 208-3676, or for TTY, contact (202) 502-8659. The eLibrary link also provides access to the texts of all formal documents issued by the Commission, such as orders, notices, and rulemakings.

Public sessions or site visits will be posted on the Commission's calendar located at https://www.ferc.gov/news-events/events along with other related information.

Dated: October 19, 2021.
Kimberly D. Bose,
Secretary.

[FR Doc. 2021-23485 Filed 10-27-21; 8:45 am]

BILLING CODE 6717-01-P